DEPARTMENT OF AGRICULTURE

Food Safety and Inspection Service

[Docket No. FSIS-2013-0049]

Codex Alimentarius Commission: Meeting of the Codex Committee on Fresh Fruits and Vegetables

AGENCY: Office of the Under Secretary for Food Safety, USDA.

ACTION: Notice of public meeting and request for comments.

SUMMARY: The Office of the Under Secretary for Food Safety, U.S. Department of Agriculture (USDA), and the Agricultural Marketing Service (AMS), are sponsoring a public meeting to take place on January 30, 2014. The objective of the public meeting is to provide information and receive public comments on agenda items and draft United States positions that will be discussed at the 18th Session of the Codex Committee on Fresh Fruits and Vegetables (CCFFV) of the Codex Alimentarius Commission (Codex), taking place in Bangkok, Thailand, from February 24-28, 2014. The Acting Under Secretary for Food Safety and AMS recognize the importance of providing interested parties the opportunity to obtain background information on the 18th Session of CCFFV and to address items on the agenda.

DATES: The public meeting is scheduled for January 30, 2014, from 1 p.m. to 3 p.m.

ADDRESSES: The public meeting will be held at USDA, Jamie L. Whitten Building, 1400 Independence Avenue SW., Room 107-A, Washington, DC 20250.

Documents related to the 18th session of CCFFV will be accessible via the World Wide Web at the following address: http://www.codexalimentarius.org/meetings-reports/en/.

Dorian Lafond, U.S. Delegate to the 18th session of CCFFV, invites U.S. interested parties to submit their comments electronically to the following email address: dorian.lafond@usda.gov.

Call-in Number

If you wish to participate in the public meeting for the 18th session of CCFFV by conference call, please use the call-in number and participant code listed below:

Call-in Number: 1-888-844-9904.

Participant code: 512-6092.

For Further Information About the 18th Session of CCFFV Contact: Dorian Lafond, Agricultural Marketing Service, Fruits and Vegetables Division, Stop 0235, Room 2086, South Building, 1400 Independence Avenue SW., Washington, DC 20250-0235; Telephone: (202) 690-4944, Fax: (202) 720-0016, Email: dorian.lafond@usda.gov.

For Further Information About the Public Meeting Contact: Kenneth Lowery, U.S. Codex Office, 1400 Independence Avenue SW., Room 4861, South Building, Washington, DC 20250; Telephone: (202) 690-4042, Fax: (202) 720-3157, Email: Kenneth.Lowery@fsis.usda.gov.

SUPPLEMENTARY INFORMATION:

Background

Codex was established in 1963 by two United Nations organizations, the Food and Agriculture Organization and the World Health Organization. Through adoption of food standards, codes of practice, and other guidelines developed by its committees, and by promoting their adoption and implementation by governments, Codex seeks to protect the health of consumers and ensure that fair practices are used in the food trade.

The CCFFV is responsible for elaborating worldwide standards and codes of practice as may be appropriate for fresh fruits and vegetables; consulting with the United Nations Economic Commission for Europe (UNECE) Working Party on Agricultural Quality Standards in the elaboration of worldwide standards and codes of practice with particular regard to ensuring that there is no duplication of standards or codes of practice and that they follow the same broad format; consulting as necessary with other international organizations that are active in the area of standardization of fresh fruits and vegetables.

The Committee is hosted by Mexico.

Issues To Be Discussed at the Public Meeting

The following items on the Agenda for the 18th session of CCFFV will be discussed during the public meeting:

• Matters arising from the Codex Alimentarius Commission and other Codex Committees

• Matters arising from other international organizations on the standardization of fresh fruits and vegetables

• UNECE standards for fresh fruits and vegetables

• Draft Codex Standard for Golden Passion Fruit (at Step 7)

• Proposed Draft Codex Standard for Durian (at Step 4)

• Proposed Draft Codex Standard for Okra (at Step 4)

• Review of the maturity requirements in the Codex Standard for Table Grapes

• Proposal for New Work on a Codex Standard for Ware Potato

• Proposal for New Work on Codex Standards for Fresh Fruits and Vegetables

• Review of the Terms of Reference of the Codex Committee on Fresh Fruits and Vegetables

• Proposed layout for Codex Standards for Fresh Fruits and Vegetables

Each issue listed will be fully described in documents distributed, or to be distributed, by the Codex Secretariat prior to the Committee meeting. Members of the public may access or request copies of these documents (see ADDRESSES).

Public Meeting

At the January 30, 2014, public meeting, draft U.S. positions on the agenda items will be described and discussed, and attendees will have the opportunity to pose questions and offer comments. Written comments may be offered at the meeting or sent to the U.S. Delegate for the 18th session of CCFFV, Dorian Lafond (see ADDRESSES). Written comments should state that they relate to activities of the 18th session of CCFFV.

USDA Nondiscrimination Statement

The U.S. Department of Agriculture (USDA) prohibits discrimination in all its programs and activities on the basis of race, color, national origin, gender, religion, age, disability, political beliefs, sexual orientation, and marital or family status. (Not all prohibited bases apply to all programs.)

Persons with disabilities who require alternative means for communication of program information (Braille, large print, audiotape, etc.) should contact USDA's Target Center at (202) 720-2600 (voice and TTY).

To file a written complaint of discrimination, write USDA, Office of the Assistant Secretary for Civil Rights, 1400 Independence Avenue SW., Washington, DC 20250-9410 or call (202) 720-5964 (voice and TTY). USDA is an equal opportunity provider and employer.

Additional Public Notification

FSIS will announce this notice online through the FSIS Web page located at http://www.fsis.usda.gov/wps/portal/fsis/topics/regulations/federal-register.

FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. In addition, FSIS offers an electronic mail subscription service which provides automatic and customized access to selected food safety news and information. This service is available at http://www.fsis.usda.gov/wps/portal/fsis/programs-and-services/email-subscription-service. Options range from recalls to export information to regulations, directives and notices.

Customers can add or delete subscriptions themselves, and have the option to password protect their accounts.

Done at Washington, DC, on January 8, 2014.
Mary Frances Lowe,
U.S. Manager for Codex Alimentarius.

[FR Doc. 2014-00819 Filed 1-16-14; 8:45 am]

BILLING CODE 3410-DM-P